DEPARTMENT OF COMMERCE

International Trade Administration

[A-475-824]

Stainless Steel Sheet and Strip in Coils From Italy: Amended Final Results of Antidumping Duty Administrative Review

AGENCY: Import Administration, International Trade Administration, Department of Commerce.

SUMMARY: On February 14, 2005, the U.S. Department of Commerce (the Department) published the final results of its administrative review of the antidumping duty order on stainless steel sheet and strip in coils from Italy for the period July 1, 2002, through June 30, 2003. See Stainless Steel Sheet and Strip in Coils from Italy: Final Results of Antidumping Duty Administrative Review, 70 FR 7472 (February 14, 2005) (Final Results) and accompanying Issues and Decision Memorandum. We are amending our Final Results to correct a ministerial error alleged by Allegheny Ludlum, AK Steel Corporation, Butler Armco Independent Union, J&L Specialty Steel, Inc., North American Stainless, United Steelworkers of America, AFL-CIO/CLC, and Zanesville Armco Independent Organization (collectively, petitioners) pursuant to section 751(h) of the Tariff Act of 1930, as amended (the Act).

EFFECTIVE DATE: March 17, 2005.

FOR FURTHER INFORMATION CONTACT: Angelica Mendoza at (202) 482-3019, AD/CVD Operations, Office 7, Import Administration, International Trade Administration, U.S. Department of Commerce, 14th Street and Constitution Avenue, NW., Washington, DC 20230.

SUPPLEMENTARY INFORMATION:

Amendment of Final Results

On February 14, 2005, the Department published the Final Results of the administrative review of the antidumping duty order on stainless steel sheet and strip (SSSS) in coils from Italy for the period July 1, 2002, through June 30, 2003. See Final Results and accompanying Issues and Decision Memorandum. In accordance with section 751(h) of the Act and 19 CFR 351.224(c)(2), on February 14, 2005, petitioners timely filed an allegation that the Department made a ministerial error in the final results. Pursuant to our review of the ministerial error alleged by petitioners, the Department is amending the Final Results to correct this error, as detailed below.

Petitioners state that the Department expressed its intention to perform the margin calculations as described in its Prelim Analysis Memo, at section IX, page 7. See Memorandum to the File through Abdelali Elouaradia, Program Manager, Office 6, AD/CVD Operations, Analysis Memorandum for the Preliminary Results, dated July 29, 2004 (Prelim Analysis Memo).¹ According to petitioners, however, the Department neglected to incorporate this programming language into the actual margin calculations in both the preliminary and final margin programs. Petitioners argue that the Department erroneously introduced programming language contrary to its standard practice and to its description of the steps required to perform the margin calculations outlined in the Prelim Analysis Memo. See Prelim Analysis Memo at 7 and the Memorandum to the File through Abdelali Elouaradia, Program Manager, Office 7, AD/CVD Operations, Analysis Memorandum for the Final Results, dated February 7, 2005 (Final Analysis Memo) at Attachment 3 (Final Margin Program, lines 3673-3688). Therefore, petitioners assert that the Department should amend its Final Results by implementing the correct programming language that was clearly expressed in the Prelim Analysis Memo and replace lines 3673-3687 of the final margin program with the standard programming language. ThyssenKrupp Acciai Speciali Terni S.p.A. (TKAST), respondent in this review, did not file comments in response to petitioners' ministerial error allegation.

¹ A public version of the analysis memorandum is on file in the Central Records Unit (CRU), room B-099 of the Herbert C. Hoover Department of Commerce building, 1401 Constitution Avenue, NW., Washington, DC.

The Act, and the Department's regulations, define a ministerial error as one involving “addition, subtraction, or other arithmetic function, clerical error resulting from inaccurate copying, duplication or the like, and any other similar type of unintentional error which the Secretary considers ministerial.” See section 751(h) of the Act and 19 CFR 351.224(f).

After reviewing petitioners' allegation, we have determined, in accordance with section 751(h) of the Act and 19 CFR 351.224, that the allegation constitutes a ministerial error. We agree with petitioners that the Department inadvertently used programming language that did not correspond to the intended programming language described in its Prelim Analysis Memo in its preliminary and final margin calculation. Accordingly, we have revised the programming language to reflect the corrected language described in both our Prelim Analysis Memo at 7 and petitioners' February 14, 2005, Ministerial Error Allegation at 4 in the U.S. sales program, which can be found in the analysis memorandum for the amended final results. See Memorandum to the File through Abdelali Elouaradia, Program Manager, Office 7, Analysis for ThyssenKrupp Acciai Speciali Terni S.p.A. (TKAST) for the Amended Final Results of the Antidumping Duty Administrative Review of Stainless Steel Sheet and Strip in Coils from Italy, dated March 9, 2005 (Amended Final Analysis Memo). As a result of the correction of a ministerial error in the Final Results, the revised weight-averaged dumping margin is as follows:

Manufacturer/exporter | Weighted-average margin (percent)
ThyssenKrupp Acciai Speciali Terni S.p.A | ² 3.73

See Amended Final Analysis Memo at Attachment 4 for programming details.

² The weighted-average dumping margin previously calculated for TKAST was 3.72 percent. See Final Results, 70 FR at 7474.

With respect to TKAST, the Department will issue appropriate assessment instructions to U.S. Customs and Border Protection (CBP) within 15 days of publication of the amended final results of review. Accordingly, the Department will determine, and CBP will assess, antidumping duties on all entries of subject merchandise from TKAST during the period July 1, 2002, through June 30, 2003, in accordance with these amended final results. The revised cash deposit rate for TKAST shown above is effective on all shipments of the subject merchandise entered, or withdrawn from warehouse, for consumption on or after the date of publication of this notice, and will remain in effect until publication of the final results of the next administrative review.

Consequently, we are issuing and publishing these amended final results and notice in accordance with sections 751(a)(1), 751(h), and 777(i) of the Act, and 19 CFR 351.224(f).

Dated: March 11, 2005.
Barbara E. Tillman,
Acting Assistant Secretary for Import Administration.

[FR Doc. E5-1167 Filed 3-16-05; 8:45 am]

BILLING CODE 3510-DS-P